DEPARTMENT OF EDUCATION

Equity and Excellence Commission

AGENCY: Office for Civil Rights, Education.

ACTION: Notice of open meeting (Amended).

SUMMARY: On January 5, 2012, the Office for Civil Rights published in the Federal Register (FR Doc. 2011-33800 Filed 1-4-12; 8:45 a.m.) a notice of open meeting on January 23, 2012 for the Equity and Excellence Commission. This notice amends the January 5, 2012 notice by providing notice of a closed session from 9 a.m. to 10 a.m. in which the Commissioners will participate in an Ethics briefing prior to the start of the January 23rd meeting

This notice sets forth the revised schedule and proposed agenda of this meeting. The original January 5th notice describes the functions of the Commission. Notice of this meeting is required by section 10(a)(2) of the Federal Advisory Committee Act and is intended to notify the public of their opportunity to attend. This notice is appearing in the Federal Register less than 15 days before the meeting due to a last minute decision to include the Ethics briefing for Commissioners.

DATES: January 23, 2012.

Time: 9 a.m. to 4:30 p.m. Eastern Standard Time.

ADDRESSES: The Commission will meet in Washington, DC at the United States Department of Education at 400 Maryland Avenue SW., Washington, DC 20202, in Barnard Auditorium.

FOR FURTHER INFORMATION CONTACT: Jim Eichner, Designated Federal Official, Equity and Excellence Commission, U.S. Department of Education, 400 Maryland Avenue SW., Washington, DC 20202. Email: equitycommission@ed.gov. Telephone: (202) 453-5945.

SUPPLEMENTARY INFORMATION: On January 23, 2012 from 9 a.m. to 4:30 p.m. Eastern Standard Time, the Equity and Excellence Commission will hold a meeting in Washington, DC in the Barnard Auditorium at the U.S. Department of Education's main building at 400 Maryland Avenue SW., Washington, DC 20202.

The purpose of the Commission is to collect information, analyze issues, and obtain broad public input regarding how the Federal government can increase educational opportunity by improving school funding equity. The Commission will also make recommendations for restructuring school finance systems to achieve equity in the distribution of educational resources and further student performance, especially for the students at the lower end of the achievement gap. The Commission will examine the disparities in meaningful educational opportunities that give rise to the achievement gap, with a focus on systems of finance, and recommend appropriate ways in which Federal policies could address such disparities.

The agenda for the Commission's January 23, 2012 meeting will include an Ethics briefing, discussion of particular language for drafting certain portions of the Commission's annual report, and reaching consensus on particular recommendations. The Commission may have breakout sessions, most likely during the second half of the meeting, to discuss particular issues. The Commission plans to discuss the establishment of two or more subcommittees to discuss recommendations the Commission may make regarding teachers and school leaders; what documents and information should be included in the materials that will supplement the main Commission report; and/or other subjects within the Commission's charter. If time permits, these subcommittees may meet in the afternoon to outline their specific tasks and timing for subsequent meetings. Due to time constraints, there will not be a public comment period, but, individuals wishing to provide comments may contact the Equity Commission via email at equitycommission@ed.gov.

Individuals interested in attending the meeting must register in advance because seating may be limited. Please contact Jim Eichner at (202) 453-5945 or by email at equitycommission@ed.gov. Individuals who will need accommodations for a disability in order to attend the meeting (e.g., interpreting services, assistive listening devices, or materials in alternative format) should notify Jim Eichner at (202) 245-5945. The meeting site is accessible to individuals with disabilities.

Records are kept of all Commission proceedings and are available for public inspection at the Department of Education, 400 Maryland Avenue SW., Washington, DC 20202 from the hours of 9 a.m. to 5 p.m. Eastern Standard Time.

Russlynn Ali,
Assistant Secretary, Office for Civil Rights.

[FR Doc. 2012-972 Filed 1-18-12; 8:45 am]

BILLING CODE P